DEPARTMENT OF THE INTERIOR

Bureau of Reclamation

Cle Elum Dam Fish Passage Facilities and Fish Reintroduction Project; Kittitas County, WA INT-DES 10-03

AGENCY: Bureau of Reclamation, Interior.

ACTION: Notice of Availability of the Draft Environmental Impact Statement (Draft EIS) and Announcement of Public Meeting.

SUMMARY: The Bureau of Reclamation (Reclamation) published a notice in the Federal Register on April 8, 2009 (74 FR 16007) announcing the commencement of work under the National Environmental Policy Act (NEPA) on the Cle Elum Dam Fish Passage Facilities and Fish Reintroduction Project. The Washington State Department of Ecology is a joint lead with Reclamation in the preparation of the Draft EIS, in coordination with the Washington Department of Fish and Wildlife and the Yakama Nation. The Bonneville Power Administration has assumed the role of a cooperating agency in the preparation of the Draft EIS. The Draft EIS will also be used to comply with requirements of the Washington State Environmental Policy Act.

The Draft EIS provides information on the analyses related to the construction of downstream juvenile fish passage and upstream adult fish passage facilities at the dam, as well as analyses associated with the implementation of a project to reintroduce fish above the dam. The Draft EIS analyzes the potential environmental, cultural, and socioeconomic effects of the proposed alternatives.

DATES: Written comments on the Draft EIS will be accepted through March 22, 2010.

A public information meeting will be held from 5 p.m. to 7 p.m. on February 18, 2010 in Cle Elum, Washington. Oral comments will be taken at the meeting. To be included in the Public Meeting Report, comments should be labeled as public meeting comments and provided to Reclamation at the address given below by February 26, 2010.

Requests for special assistance at the meeting should be submitted by February 9, 2010 (see SUPPLEMENTARY INFORMATION section, Special Assistance for Public Meetings).

ADDRESSES: Written comments on the Draft EIS should be addressed to the Bureau of Reclamation, Columbia Cascades Area Office, Attention: Candace McKinley, Environmental Protection Specialist, 1917 Marsh Road, Yakima, Washington 98901 or submitted to the following e-mail address: sha-uca-fishpassage@usbr.gov.

The public meeting will be held at the City of Cle Elum Council Chamber Room, 119 West 1st Street, Cle Elum, Washington. Meeting facilities are physically accessible to people with disabilities.

FOR FURTHER INFORMATION CONTACT: Contact Candace McKinley, Environmental Protection Specialist, at 509-575-5848, ext. 276. Information on this project can also be found at http://www.usbr.gov/pn/programs/ucao_misc/fishpassage/. To receive a copy of the Draft EIS refer to the above contact.

SUPPLEMENTARY INFORMATION:

Meeting Information

Requests to make oral comments may be made at the meeting. In order to ensure that all those interested in providing oral comments have an opportunity to do so, oral comments at the meeting will be limited to 5 minutes. Comments will be recorded by a court reporter. Commenters will be called in the order indicated on the sign in list for speaking. Commenters not present when called will be recalled at the end of the other scheduled commenters. Commenters may provide written versions of their oral comments, or other additional written comments, for the meeting record. Longer comments should be summarized at the public meeting and submitted in writing either at the public meeting or identified as meeting comments and mailed as indicated in the DATES section.

Background

Reclamation is evaluating the construction of downstream juvenile fish passage and upstream adult fish passage alternatives at the dam for the Cle Elum Dam Fish Passage Facilities Project. Cle Elum Dam did not include fish passage facilities when constructed in 1933; consequently, fish passage to upstream habitat for fish species was blocked.

As part of the effort to restore fish above Cle Elum Dam, the Washington Department of Fish and Wildlife, in collaboration with Yakama Nation, is evaluating the implementation of a project to reintroduce fish populations above the dam. The reintroduction plan would involve the transportation and release of adults for natural spawning and potentially hatchery supplementation techniques to restore fish above the dam.

Early in 2001, Yakima River basin interest groups urged Reclamation to incorporate fish passage facilities as part of the reconstruction of Keechelus Dam under the Safety of Dams program. Reclamation determined that fish passage facilities could not be added under existing Safety of Dams authority. However, in the January 2002 Record of Decision for Keechelus Dam Modification EIS, Reclamation committed to seek funding under existing authorities to conduct a feasibility study for providing fish passage at all Yakima Project storage dams. Additionally, Reclamation agreed to mitigation agreement terms and Hydraulic Project Approval conditions with Washington Department of Fish and Wildlife to investigate fish passage feasibility. In 2003, Reclamation prevailed in a suit filed by the Yakama Nation concerning the NEPA and Endangered Species Act compliance for the Keechelus Safety of Dams project. The Yakama Nation then appealed that decision to the 9th Circuit Court of Appeals. In 2006, Reclamation and the Yakama Nation entered into a settlement agreement to resolve litigation in which the parties agreed to collaborate to prepare technical plans and a planning report for fish passage at Cle Elum and Bumping Lake Dams. This Draft EIS is part of the agreed-upon planning process for Cle Elum Dam only. An EIS for Bumping Lake fish passage will be prepared separately at a future time.

Special Assistance for Public Meetings

TTY users may dial 711 to obtain a toll free TTY relay.

Requests for sign language interpretation for the hearing impaired should be submitted to Ms. Candace McKinley at 509-575-5848, extension 276, or mailed to her at the address in the ADDRESSES section.

Spanish language interpretation requests should be made to John Evans at 509-575-5848, extension 238. Si necesita interprete para Espanol, por favor llame John Evans a 509-575-5848, extencion 238.

Public Disclosure Statement

Before including your name, address, phone number, e-mail address, or other personal identifying information in your comment, you should be aware that your entire comment, including your personal identifying information, may be made publicly available at any time. While you may ask us in your comment to withhold your personal identifying information from public review, we cannot guarantee that we will be able to do so.

J. William McDonald,
Regional Director, Pacific Northwest Region.

[FR Doc. 2010-2237 Filed 2-2-10; 8:45 am]

BILLING CODE 4310-MN-P